SECURITIES AND EXCHANGE COMMISSION

Sunshine Act Meetings

FEDERAL REGISTER CITATION OF PREVIOUS ANNOUNCEMENT: 84 FR 58772, 1 November 2019.

PREVIOUSLY ANNOUNCED TIME AND DATE OF THE MEETING: Tuesday, November 5, 2019 at 10:00 a.m.

CHANGES IN THE MEETING: The following item will not be considered during the Open Meeting on Tuesday, November 5, 2019:

• The Commission will consider whether to propose amendments under the Advisers Act of 1940 to the rules that prohibit certain investment adviser advertisements and payments to solicitors.

CONTACT PERSON FOR MORE INFORMATION: For further information and to ascertain what, if any, matters have been added, deleted or postponed, please contact the Office of the Secretary at (202) 551-5400.

Dated: November 4, 2019.
Vanessa A. Countryman,
Secretary.

[FR Doc. 2019-24376 Filed 11-5-19; 11:15 am]

BILLING CODE 8011-01-P